DEPARTMENT OF COMMERCE

National Oceanic and Atmospheric Administration

[Docket No. 060324085-6085-01; I.D. 032906F]

Science on a Sphere Installation Cooperative Agreements

AGENCY: Office of Education (OEd), Office of the Undersecretary of Commerce for Oceans and Atmosphere (USEC), National Oceanic and Atmospheric Administration (NOAA), Commerce.

ACTION: Notice and request for proposals.

SUMMARY: The NOAA Office of Education (OEd) is issuing a request for applications from informal education institutions with interest in displaying NOAA's Science on a Sphere. Awards will be made as one-year cooperative agreements and will be issued in fiscal year 2006 (FY06). Funded projects will support informal education institutions in incorporating this data visualization technology and compatible environmental data products into public exhibits. The goal of this program is to build environmental literacy among the general public through increased use of NOAA or NOAA-related data and data products in informal education institutions. See NOAA's Education Plan for more details on this goal and strategy: (http://www.oesd.noaa.gov/NOAA_Ed_Plan.pdf). It is anticipated that final recommendations for funding under this announcement will be made by June 30, 2006, and that projects funded under this announcement will have a start date no earlier than October 1, 2006.

DATES: The deadline for full applications is 5 p.m., EDT May 5, 2006. It is anticipated that final recommendations for funding under this announcement will be made by June 30, 2006, and that projects funded under this announcement will have a start date no earlier than October 1, 2006.

ADDRESSES: Full applications should be submitted through Grants.gov APPLY (http://www.grants.gov). It is strongly suggested that Grants.gov be accessed using Internet Explorer for maximum compatibility. Because registration with Grants.gov can take up to three weeks, it is strongly recommended that this registration process is completed as soon as possible. Also, even if an applicant has registered with Grants.gov previously, the applicant's password may have expired. It is recommended that submission through Grants.gov be attempted 2 days prior to the deadline to avoid electronic submission errors. See the Office of Education's frequently asked questions site http://www.oesd.noaa.gov/sos_faqs.html for more details.

If an applicant does not have Internet access, application kits must be requested from Carrie McDougall, completed, signed, and one hard copy should be sent to Carrie McDougall, DOC/NOAA Office of Education, 1401 Constitution Avenue NW., Room 6863, Washington, DC 20230. If submitting a hard copy, applicants are requested to provide a CD-ROM of the application, including scanned signed forms or forms with electronic signatures. Printed forms from Grants.gov submitted in hard copy will not be accepted. Please note: Hard copies submitted via the U.S. Postal Service can take up to 4 weeks to reach this office; applicants are recommended to send hard copies via expedited shipping methods (e.g., Airborne Express, DHL, Fed Ex, UPS). See the Office of Education's frequently asked questions site http://www.oesd.noaa.gov/sos_faqs.html for more details. This announcement will also be available at: http://www.oesd.noaa.gov/funding_opps.html or by contacting the program official identified in FOR FURTHER INFORMATION CONTACT.

FOR FURTHER INFORMATION CONTACT: Carrie McDougall, telephone 202-482-0875; e-mail carrie.mcdougall@noaa.gov.

SUPPLEMENTARY INFORMATION: The NOAA Office of Education (OEd) is issuing a request for applications from informal education institutions with interest in displaying NOAA's Science on a Sphere. Awards will be made as one-year cooperative agreements and will be issued in FY06. The goal of this program is to build environmental literacy among the general public through increased use of NOAA data or NOAA-related data and data products in informal education institutions. See NOAA's Education Plan for more details on this goal and strategy: (http://www.oesd.noaa.gov/NOAA_Ed_Plan.pdf). It is anticipated that final recommendations for funding under this announcement will be made by June 30, 2006, and that projects funded under this announcement will have a start date no earlier than October 1, 2006. NOAA's Science on a Sphere (SOS) is a complete data visualization system consisting of a 68-inch diameter opaque sphere onto which 4 video projectors project seamless “movies” of animated earth system dynamics or other solar system objects. NOAA data and NOAA-related data, models, and near real-time whole-earth satellite imagery are provided with the SOS system. The current version of the standard, turnkey system will be provided to successful applicants. See http://www.oesd.noaa.gov/sos_faqs.html for more details. A detailed description for each program priority is in the full funding opportunity announcement that can be accessed via the Grants.gov Web site, the NOAA Web site at http://www.oesd.noaa.gov/funding_opps.html, or by contacting the program official identified in FOR FURTHER INFORMATION CONTACT.

Electronic Access

The full text of the full funding opportunity announcement for this OEd program can be accessed via the Grants.gov FIND Web site. That announcement will also be available at this NOAA Web site: http://www.oesd.noaa.gov/funding_opps.html or by contacting the program official identified under FOR FURTHER INFORMATION CONTACT. Applicants must read and comply with all requirements contained in the full funding opportunity announcement. This Federal Register notice is available through the NOAA Home page at: http://www.noaa.gov/.

Statutory Authority: 15 U.S.C. 1540; Public Law 109-108, Department of Commerce and Related Agencies Appropriations Act, 2006.

CFDA: 11.469, Congressionally Identified Awards and Projects.

Funding Availability

NOAA announces the availability of approximately $200,000 of Federal financial assistance in FY 2006 for Science on a Sphere Installation Cooperative Agreements. Approximately 2 to 4 awards in the form of cooperative agreements will be made. NOAA will only consider projects that have duration of one year. The total Federal amount that may be requested from NOAA shall not exceed $100,000 including direct and indirect costs. Applications requesting Federal support from NOAA of more than $100,000 in total costs will not be considered for funding.

Publication of this notice does not oblige DOC/NOAA to award any specific project or to obligate any available funds. If an applicant incurs any costs prior to receiving an award agreement signed by an authorized NOAA Grants Officer, the applicant would do so solely at one's own risk of such costs not being included under the award.

Eligibility

Eligible applicants are institutions of higher education, other nonprofits, commercial organizations, and state, local and Indian tribal governments. Federal agencies are not eligible to receive Federal assistance under this announcement, but may be project partners. Among those eligible applicants are K through 12 public and independent schools and school systems, and science centers and museums. The Department of Commerce/National Oceanic and Atmospheric Administration (DOC/NOAA) is strongly committed to increasing the participation of Minority Serving Institutions (MSIs), i.e., Historically Black Colleges and Universities, Hispanic-serving institutions, Tribal colleges and universities, Alaskan Native and Native Hawaiian institutions, and institutions that work in underserved communities. Applications are encouraged that involve any of the above institutions.

Cost Sharing Requirements

There are no cost-sharing requirements.

Evaluation and Selection Procedures

NOAA published its agency-wide solicitation entitled ”Omnibus Notice Announcing the Availability of Grant Funds for Fiscal Year 2006” for projects for Fiscal Year 2006 in the Federal Register on June 30, 2005 (70 FR 37766). The evaluation criteria and selection procedures for projects contained in that omnibus notice are applicable to this solicitation. Copies of the notice are available on the Internet at: http://www.ago.noaa.gov/grants/funding.shtml. Further details on evaluation and selection criteria can be found in the full funding opportunity announcement.

Intergovernmental Review

Applications under this program are not subject to Executive Order 12372, ”Intergovernmental Review of Federal Programs.”

Limitation of Liability

In no event will NOAA or the Department of Commerce be responsible for application preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216 6 TOC.pdf, and the Council on Environmental Quality implementation regulations, http://ceq.eh.doe.gov/nepa/regs/ceq/toc ceq.htm. Consequently, as part of an applicant's package, and under their description of their program activities, applicants are required to provide detailed information on the activities to be conducted, locations, sites, species and habitat to be affected, possible construction activities, and any environmental concerns that may exist (e.g., the use and disposal of hazardous or toxic chemicals, introduction of nonindigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: March 30, 2006.
Helen Hurcombe,
Director, NOAA Acquisitions and Grants, U.S. Department of Commerce.

[FR Doc. E6-4868 Filed 4-4-06; 8:45 am]

BILLING CODE 3510-KC-P